ENVIRONMENTAL PROTECTION AGENCY

[FRL OP-OFA-044]

Environmental Impact Statements; Notice of Availability

Responsible Agency: Office of Federal Activities, General Information 202-564-5632 or https://www.epa.gov/nepa.

Weekly receipt of Environmental Impact Statements (EIS) Filed November 4, 2022 10 a.m. EST Through November 14, 2022 10 a.m. EST Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20220164, Draft, FHWA, LA, I-10 Calcasieu River Bridge Improvements, Comment Period Ends: 01/03/2023, Contact: Daniel Suarez 225-757-7615.

EIS No. 20220165, Draft, USFWS, OR, Elliott State Research Forest Habitat Conservation Plan, Comment Period Ends: 01/03/2023, Contact: Shauna Everett 503-231-6949.

EIS No. 20220166, Final, EPA, IBWC, CA, United States-Mexico-Canada Agreement Mitigation of Contaminated Transboundary Flows Project, Review Period Ends: 12/19/2022, Contact: Steven Smith 415-972-3752.

EIS No. 20220167, Draft, USFS, CA, North Yuba Landscape Resilience Project, Comment Period Ends: 01/03/2023, Contact: John I Brokaw 530-265-4531.

EIS No. 20220168, Final, NMFS, PRO, Programmatic Environmental Impact Statement for the Marine Mammal Health and Stranding Response Program, Review Period Ends: 12/19/2022, Contact: Stephen Manley 301-427-8476.

EIS No. 20220169, Final, BLM, USFS, ID, Husky 1 North Dry Ridge Phosphate Mine, Review Period Ends: 12/19/2022, Contact: Wes Gilmer 208-478-6369.

EIS No. 20220170, Draft Supplement, FHWA, WI, I-94 East—West (16th Street—70th Street) Milwaukee County, WI, Comment Period Ends: 01/17/2023, Contact: Bethaney Bacher-Gresock 608-662-2119.

EIS No. 20220171, Draft, BOEM, NY, Empire Offshore Wind, Comment Period Ends: 01/17/2023, Contact: Brandi Sangunett 703-787-1015.

Dated: November 14, 2022.
Cindy S. Barger,
Director, NEPA Compliance Division, Office of Federal Activities.

[FR Doc. 2022-25194 Filed 11-17-22; 8:45 am]

BILLING CODE 6560-50-P